DEPARTMENT OF COMMERCE

International Trade Administration

[A-570-119]

Certain Vertical Shaft Engines Between 225cc and 999cc, and Parts Thereof, From the People's Republic of China: Amended Negative Preliminary Determination of Critical Circumstances

AGENCY: Enforcement and Compliance, International Trade Administration, Department of Commerce.

SUMMARY: The Department of Commerce (Commerce) is amending the preliminary determination of the less-than-fair-value (LTFV) investigation of certain vertical shaft engines between 225cc and 999cc, and parts thereof (vertical shaft engines) from the People's Republic of China (China) to correct a significant ministerial error with respect to our preliminary critical circumstances determination. The period of investigation is July 1, 2019 through December 31, 2019.

DATES: Applicable October 7, 2020.

FOR FURTHER INFORMATION CONTACT: Leo Ayala or Alex Cipolla, AD/CVD Operations, Office VII, Enforcement and Compliance, International Trade Administration, U.S. Department of Commerce, 1401 Constitution Avenue NW, Washington, DC 20230; telephone: (202) 482-3945 or (202) 482-4956, respectively.

SUPPLEMENTARY INFORMATION:

Background

On August 19, 2020, Commerce published its Preliminary Determination.¹ On August 19, 2020, we received ministerial error comments from Chongqing Zongshen General Power Machine Co., Ltd (Zongshen) alleging that Commerce made certain significant ministerial errors in the Preliminary Determination. No other party made an allegation of ministerial errors. On August 24, 2020, Briggs & Stratton Corporation provided reply comments to Zongshen's allegations. After reviewing the allegation, we determine that the Preliminary Determination included a significant ministerial error with respect to our preliminary critical circumstances determination. Therefore, we are amending the Preliminary Determination to find that critical circumstances do not exist for Zongshen.

¹ See Certain Vertical Shaft Engines Between 225cc and 999cc, and Parts Thereof, from the People's Republic of China: Preliminary Affirmative Determination of Sales at Less Than Fair Value, Preliminary Affirmative Determination of Critical Circumstances, Postponement of Final Determination, and Extension of Provisional Measures, 85 FR 51015 (August 19, 2020) (Preliminary Determination).

Scope of the Investigation

The products covered by this investigation are vertical shaft engines from China. For a complete description of the scope of this investigation, see the Preliminary Determination.²

² Id., 85 FR at 51017.

Analysis of Significant Ministerial Error Allegation

Pursuant to 19 CFR 351.224, and as explained further in the Ministerial Error Memorandum ³ issued concurrently with this Notice, we determine that the Preliminary Determination contained an error with respect to our preliminary critical circumstances calculation. In particular, we found an unintentional error in our calculation under the statutory criteria involving massive imports over a relatively short period.⁴ In our corrected calculation of Zongshen's massive import analysis, we found that imports based on Zongshen's reported shipments of merchandise under consideration did not increase during the comparison period by more than 15 percent over its respective imports in the base period.⁵ Correction of this error results in a determination that Zongshen's imports were not massive during the comparison period and changes the preliminary critical circumstances determination from affirmative to negative for Zongshen.⁶ Commerce considers this ministerial error to be significant warranting an amendment to our preliminary critical circumstances determination with respect to Zongshen. Commerce does not consider any of the other alleged ministerial errors to be ministerial in nature.⁷

³ See Memorandum, “Antidumping Duty Investigation of Certain Vertical Shaft Engines Between 225cc and 999cc, and Parts Thereof, from China: Allegation of Ministerial Errors in the Preliminary Determination,” dated concurrently with this notice (Ministerial Error Memorandum).

⁴ See section 733(e)(1)(B) of the Act.

⁵ See Ministerial Error Memorandum.

⁶ Id.

⁷ Id.

Therefore, we amend our preliminary determination and find there were not massive imports for Zongshen, pursuant to section 733(e)(1)(B) of the Act and 19 CFR 351.206(c)(2)(i). Accordingly, we find that critical circumstances do not exist with respect to Zongshen.

Suspension of Liquidation

The collection of cash deposits and suspension of liquidation will be revised, in accordance with section 733(e) of the Act. We will instruct U.S. Customs and Border Protection (CBP) to suspend liquidation of entries of subject merchandise, as described in Appendix I, entered, or withdrawn from warehouse, for consumption on or after August 19, 2020, the date of publication of the Preliminary Determination.

We will also instruct CBP to require a cash deposit equal to the estimated preliminary antidumping duty rate reflected in the Preliminary Determination. This suspension of liquidation will remain in effect until further notice.

Notification of U.S. International Trade Commission (ITC)

In accordance with section 733(f) of the Act, we will notify the ITC of our determination. In addition, we are making available to the ITC all non-privileged and non-proprietary information relating to this investigation. We will allow the ITC access to all privileged and business proprietary information in our files, provided the ITC confirms that it will not disclose such information, either publicly or under an administrative protective order, without the written consent of the Assistant Secretary for Enforcement and Compliance.

Notification to Interested Parties

This determination is issued and published pursuant to sections 733(f) and 777(i)(1) of the Act and 19 CFR 351.224(e).

Dated: September 30, 2020.
Jeffrey I. Kessler,
Assistant Secretary for Enforcement and Compliance.

[FR Doc. 2020-22179 Filed 10-6-20; 8:45 am]

BILLING CODE 3510-DS-P